DEPARTMENT OF HEALTH AND HUMAN SERVICES

National Institutes of Health

National Heart, Lung, and Blood Institute; Amended Notice of Meeting

Notice is hereby given of a change in the meeting of the National Heart, Lung, and Blood Institute Special Emphasis Panel, March 2, 2005, 8 a.m. to March 2, 2005, 5 p.m., Sheraton Inner Harbor Hotel, 300 South Charles Street, Baltimore, MD 21201 which was published in the Federal Register on January 18, 2005, FR70:2867-2868.

The meeting will be held on March 1 at 8 a.m. instead of March 2, 2005 as previously advertised. The meeting is closed to the public.

Dated: February 8, 2005.
LaVerne Y. Stringfield,
Director, Office of Federal Advisory Committee Policy.

[FR Doc. 05-2956 Filed 2-15-05; 8:45 am]

BILLING CODE 4140-01-M